DEPARTMENT OF COMMERCE

National Oceanic and Atmospheric Administration

RTID 0648-XE677

Issuance of Permit; Marine Mammals, File No. 28229

AGENCY: National Marine Fisheries Service (NMFS), National Oceanic and Atmospheric Administration (NOAA), Commerce.

ACTION: Notice.

SUMMARY: Notice is hereby given that a permit has been issued to Humble Bee Wild Ltd (subsidiary of Humble Bee Films Ltd), 8 Elmdale Road, Bristol, BS8 1SL, United Kingdom, (Responsible Party: Natasha Busjeet) to conduct commercial and educational photography on humpback whales (Megaptera novaeangliae).

ADDRESSES: The permit and related documents are available for review upon written request via email to NMFS.Pr1Comments@noaa.gov.

FOR FURTHER INFORMATION CONTACT: Carrie Hubard or Erin Markin, (301) 427-8401.

SUPPLEMENTARY INFORMATION: On November 29, 2024, notice was published in the Federal Register (89 FR 94713) that a request for a permit to conduct commercial and educational photography had been submitted by the above-named applicant. The requested permit was issued on February 27, 2025, under the authority of the Marine Mammal Protection Act of 1972, as amended (16 U.S.C. 1361 et seq.) and the regulations governing the taking and importing of marine mammals (50 CFR part 216).

The permit authorizes the applicant to film up to 540 humpback whales annually in the Auau Channel, Hawaii. Filming may occur from vessels, unmanned aircraft systems, and underwater divers. Fifty common bottlenose (Tursiops truncatus) and 50 spinner (Stenella longirostris) dolphins may be filmed while interacting with humpback whales. Footage will be used for an episode of a natural history television series. The permit is valid through April 30, 2026.

In compliance with the National Environmental Policy Act of 1969 (42 U.S.C. 4321 et seq.), a final determination has been made that the activity proposed is categorically excluded from the requirement to prepare an environmental assessment or environmental impact statement.

Dated: February 28, 2025.
Julia M. Harrison,
Chief, Permits and Conservation Division, Office of Protected Resources, National Marine Fisheries Service.

[FR Doc. 2025-03567 Filed 3-4-25; 8:45 am]

BILLING CODE 3510-22-P